DEPARTMENT OF TRANSPORTATION

Federal Highway Administration

Environmental Impact Statement: Chautauqua County, NY

AGENCY: Federal Highway Administration (FHWA), DOT.

ACTION: Notice of Intent.

SUMMARY: The FHWA is issuing this notice to advise the public that an Environmental Impact Statement (EIS) will be prepared for the proposed Millennium Parkway project in Chautauqua County, New York, Project Identification Number (PIN) 5757.55.

FOR FURTHER INFORMATION CONTACT: Jeffrey W. Kolb, P.E., Division Administrator, Federal Highway Administration, New York Division, Leo W. O'Brien Federal Building, 7th Floor, Clinton Avenue and North Pearl Street, Albany, New York 12207, Telephone: (518) 431-4127; or

Alan E. Taylor, P.E., Regional Director, NYSDOT Region 5; 100 Seneca Street, Buffalo NY 14203, Telephone: (716) 847-3238; or

George E. Spanos, P.E., Director, CCDPF, 454 North Work Street, Falconer, New York 14733, Telephone: (716) 661-8400.

SUPPLEMENTARY INFORMATION: The FHWA, in cooperation with the New York State Department of Transportation (NYSDOT) and the Chautauqua County Department of Public Facilities (CCDPF), will prepare an EIS on a proposal to construct the Millennium Parkway in Chautauqua County, New York.

An industrial corridor, including industrial districts located along Werle Road, Harrington Road, Progress Drive, and County Route (CR) 82 (Middle Road), is being developed to provide further economic opportunities within the surrounding communities. This industrial corridor includes the Chadwick Bay Industrial Park, located to the east of the City of Dunkirk in the Town of Sheridan. Although directly adjacent to air and rail facilities, tractor-trailer truck traffic access to the industrial corridor is currently not adequate.

The purpose of the Millennium Parkway Project is to improve tractor-trailer truck traffic access to the industrial corridor, including the Chadwick Bay Industrial Park, from New York (NY) Route 60 (Bennett Road). Objectives to be met with the construction of the Millennium Parkway are to: Improve tractor-trailer truck-oriented infrastructure to the industrial corridor; improve vehicular and pedestrian safety along the existing truck route; and reduce travel time from NY Route 60 to the industrial corridor.

The reasonable range of alternatives will include a No-Build Alternative and three Build Alternatives, which are briefly described below. Additional input from Participating and Cooperating Agencies, and from the public, will be necessary before a final decision will be made regarding the full range of alternatives to be studied.

• The No-Build Alternative would utilize the existing truck route in its current condition. This alternative would maintain the existing truck route along NY Route 60 to NY Route 5 (Lakeshore Drive) to CR 82 in its present state with only routine maintenance to keep the existing truck route open to traffic.

• The Build Alternatives are: Improving the existing truck route; improving other existing routes; or constructing a new urban collector on new alignment by utilizing existing and/or new roads. Incorporated into and studied with the various build alternatives will be design variations of grade and alignment.

The purpose of the Millennium Parkway Project is to improve tractor-trailer truck traffic access to the industrial corridor, including the Chadwick Bay Industrial Park, from NY Route 60. In order to meet this purpose, the project limits have been sufficiently delineated to include the industrial corridor. The western boundary of the Project Limits has been established as the existing truck route along NY Route 60, since the tractor-trailer truck traffic currently passing through the City of Dunkirk utilizes this route. The northern boundary of the project limits has been established as the remaining portion of the existing truck route along NY Route 5 and CR 82 as well as the CSX Transportation (CSXT) Railroad, to avoid any additional railroad crossings. The eastern boundary of the project limits has been established as Harrington Road, CR 82, and Cook Road to avoid conflicts with the Dunkirk Airport. Finally, the southern boundary of the project limits has been established as Interstate 90 (I-90) to avoid conflicts with this route (I-90).

The limits considered to define the bounds of the affected environment for the environmental assessment of the Build Alternatives, which vary slightly from the Project Limits, are generally as follows: northwest along NY Route 60 from the intersection with I-90, Interchange 59; east then north along the City of Dunkirk city limit line; northeast along the CSXT Railroad; south along the existing alignments of Harrington Road, CR 82, and Cook Road; then southwest along the existing alignment of I-90.

The anticipated length of the proposed roadway will be determined based on the preferred alternative. The highway's southern terminus would be located at NY Route 60, north of I-90, Interchange 59, and its northern terminus would be located in the vicinity of the industrial corridor.

Letters describing the proposed action and soliciting comments will be sent to appropriate Federal, State, and local agencies, and to private organizations and citizens who have previously expressed or are known to have interest in this proposal. As part of the formal scoping process for this project, a series of public meetings will be held in the towns of Dunkirk and Sheridan this fall. Public notice will be given regarding the time and place of the meetings. The draft EIS will be available for public and agency reviews and comment prior to a public hearing. The draft EIS is expected to be completed in the spring of 2009.

To ensure that the full range of issues related to this proposed action are addressed and all significant issues identified, comments and suggestions are invited from all interested parties. Comments or questions concerning this proposed action and the EIS should be directed to the FHWA, NYSDOT, or CCDPF at the addresses provided earlier.

(Catalog of Federal Domestic Assistance Program Number 20.205, Highway Planning and Construction. The regulations implementing Executive Order 12372 regarding intergovernmental consultation on Federal programs and activities apply to this program.)

Authority: 23 U.S.C. 315; 23 CFR 771.123.

Issued on: December 19, 2007.
Jeffrey W. Kolb,
Division Administrator, Federal Highway Administration, Albany, New York.

[FR Doc. E7-25027 Filed 12-26-07; 8:45 am]

BILLING CODE 4910-22-P